DEPARTMENT OF TRANSPORTATION

Pipeline and Hazardous Materials Safety Administration Office of Hazardous Materials Safety; Notice of Applications for Modification of Special Permit

AGENCY: Pipeline and Hazardous Materials Safety Administration (PHMSA), DOT.

ACTION: List of applications for modification of special permit.

SUMMARY: In accordance with the procedures governing the application for, and the processing of, special permits from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” denote a modification request. There applications have been separated from the new application for special permits to facilitate processing.

DATES: Comments must be received on or before March 10, 2008.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East building, PHH-30, 1200 New Jersey Avenue, Southeast, Washington, DC or at http://dms.dot.gov.

This notice of receipt of applications for modification of special permit is published in accordance with Part 107 of the Federal hazardous materials transportation law (49 U.S.C. 5117(b); 49 CFR 1.53(b)).

Issued in Washington, DC, on February 19, 2008.
Delmer F. Billings,
Director, Office of Hazardous Materials, Special Permits and Approvals.

Application No. | Docket No. | Applicant | Regulation(s) affected | Nature of special permit thereof
Modification Special Permits
8215-M |  | Olin Corporation, Brass and Winchester, Inc., East Alton, IL | 49 CFR Part 172, Subpart E; 172.320; 173.62(c); 173.230 | To modify the special permit to authorize the use of a Division 1.1 placard.
8723-M |  | Alaska Pacific Powder Company, Anchorage, AK | 49 CFR 172.101; 173.62; 173.242; 176.83; 177.848 | To modify the special permit to authorize an additional container type.
11818-M |  | ITT Industries Space Systems, LLC, Rochester, NY | 49 CFR 180.205 | To modify the special permit to authorize the transportation in commerce of an additional Division 2.2 gas and to increase the maximum width of capillary pumped loops.
12440-M |  | Luxfer Gas Cylinders, Riverside, CA | 49 CFR 173.301(h); 173.302(a); 178.46(a)(4); 178.46(c)(i) | To modify the special permit to establish additional testing matrix guidelines.
13207-M |  | BEI, Honolulu, HI | 49 CFR 173.32(f)(5) | To modify the special permit to authorize additional portable tanks for the transportation in commerce of sulfuric acid.
14333-M |  | The Columbiana Boiler Co., Columbiana, OH | 49 CFR 179.300-13(b) | To modify the special permit to authorize a new design in securing/sealing hex plugs.
14393-M |  | Hamilton Sundstrand, Windsor Locks, CT | 49 CFR 173.306(e) (iii), (iv), (v) and (vi); 173.307(a)(4)(iv) | To modify the special permit to authorize the transportation in commerce of new supplemental cooling unit refrigeration machines with alternative safety devices as a component part of an aircraft.
14496-M |  | Oilphase Division, Schlumberger Eval. & Production (UK) Ltd Dyce, Aberdeen, UK | 49 CFR 173.201(c), 173.202(c), 173.203(c), 173.301(f), 173.302(a), 173.304(a), 173.304(d), 175.3 | To modify the special permit to authorize minor revisions to the non-DOT specification oil well sampling cylinder.
14544-M |  | DS Containers, Inc., Batavia, IL | 49 CFR 173.306(a)(3)(v) | To modify the special permit to authorize additional non-DOT specification containers.
14568-M |  | Department of Defense, Ft. Eustis, VA | 49 CFR 173.431 | To reissue the special permit originally issued on an emergency basis for the transportation in commerce of portable nuclear gauges containing certain radioactive materials exceeding the quantity that may be transported in a Type A packaging.

[FR Doc. 08-813 Filed 2-22-08; 8:45 am]

BILLING CODE 4909-60-M